DEPARTMENT OF AGRICULTURE

Forest Service

Request for Proposals for Woody Biomass Utilization Grant—Forest Restoration Activities on National Forest System Lands

AGENCY: Forest Service, USDA.

ACTION: Request for proposals.

SUMMARY: The USDA Forest Service, State and Private Forestry, Technology Marketing Unit, located at the Forest Products Laboratory, requests proposals for forest product projects that increase the use of woody biomass from national forest system lands. The woody biomass utilization grant program is intended to help improve forest restoration activities by using and creating markets for small-diameter material and low-valued trees removed from forest restoration activities, such as reducing hazardous fuels, handling insect and diseased conditions, or treating forestlands impacted by catastrophic weather events. These funds are targeted to help communities, entrepreneurs, and others turn residues from forest restoration activities into marketable forest products and/or energy products.

DATES: Pre-application Deadline: Close of business November 3, 2006.

Full application Deadline: Close of business February 2, 2007.

ADDRESSES: All pre- and full-application packages must be sent to the following address: ATTN: Shawn Lacina, Grants and Agreements Specialist, Forest Products Laboratory, 1 Gifford Pinchot Dr., Madison, WI 53726-2398. Detailed information regarding what to include in the pre- and full-application, definitions of terms, eligibility and federal restrictions are available at http://www.fpl.fs.fed.us/tmu (under Woody Biomass Grants). Paper copies of the information are also available by contacting the USDA Forest Service, S&PF Technology Marketing Unit, Madison, Wisconsin.

FOR FURTHER INFORMATION CONTACT: For questions regarding contract and agreement questions, contact Shawn Lacina, Grants and Agreements Specialist, (608) 231-9282, slacina@fs.fed.us, for program and technical questions, contact Susan LeVan, Program Manager, (608) 231-9504, slevan@fs.fed.us.

SUPPLEMENTARY INFORMATION: To meet the shared goals of Public Law 109-190 the Energy Policy Act of 2005, and the anticipated Public Law governing the Department of the Interior, Environment, and Related Agencies Appropriations Act of 2007, the agency is requesting proposals to address the nationwide challenge in dealing with low-valued material removed from hazardous fuel reduction activities, restoration of insect and diseased conditions or catastrophic weather events. The Woody Biomass Utilization Grant Program has a pre-application submission process, and upon notification, selected pre-applicants will be asked to submit a full application. Goals of the grant program are the following:

• Help reduce forest management costs by increasing value of biomass and other forest products generated from forest restoration activities.

• Create incentives and/or reduce business risk for increased use of biomass from national forestlands (must include National Forest System lands, however, may also include other lands such as, BLM, Tribal, State, local, and private).

• Institute projects that target and help remove economic and market barriers to using small-diameter trees and woody biomass.

• Require a Forest Service letter of support for the woody biomass grant project on National Forest System lands.

Woody Biomass Grants Program

1. Eligibility Information

a. Eligible Applicants

Eligible applicants are State, local, and tribal governments, school districts, communities, non-profit organizations, businesses, companies, corporations, or special purpose districts, e.g., public utilities districts, fire districts, conservation districts, or ports. Only one application per business or organization will be accepted. Construction projects involving a permanent building or infrastructure item, such as roads, are not allowed with federal funds; however construction funds can be part of the non-federal cost share.

b. Cost Sharing (Matching Requirement)

Applicants must demonstrate at least a 20% match from non-Federal sources, which can include cash or in-kind contributions.

2. DUNS Number

All applicants must include a Dun and Bradstreet (D&B), Data Universal Numbering System (DUNS) number in their full application. For the purpose of this requirement, the applicant is the entity that meets the eligibility criteria and has the legal authority to apply for an award. For assistance in obtaining a DUNS number at no cost, call the DUNS number request line (1-866-705-5711) or register on-line at https://eupdate.dnb.com/requestoptions/government/ccrreg/. By submission of an application, the applicant acknowledges the requirement that prospective awardees shall be registered in the Central Contractor Registration (CCR) database prior to award, during performance, and through final payment of any grant resulting from this solicitation. Further information can be found at http://www.ccr.gov.

3. Award Information

At least $4 million is available for granting under this program. Individual grants will not be less than $50,000 or more than $250,000. Funds are presently not available for this grant program. The Government's obligation under this program is contingent upon the availability of 2007 appropriated funds from which payment for grant purposes can be made. No legal liability on the part of the Government for any payment may arise until funds are made available to the Grants Officer for this program, and until the Cooperator receives notice of such availability, to be confirmed in writing by the Grants Officer. Successful applicants will be announced by March 5, 2007. The maximum length of the award is 3 years from the date of award. Written, quarterly financial and semi-annual performance reports will be required. Applicants should be aware that the grant funds are regarded as taxable income and a form 1099 will be sent by the Forest Service to the IRS.

4. Application Review Process

A two-step technical evaluation process is used for applications submitted under this solicitation. The first step requires the applicant to submit a preliminary application (pre-application). Pre-applications are evaluated on the evaluation criteria discussed in Section 5.

A review panel of technical experts from Federal agencies judges the pre-applications. Panel members independently review the pre-applications according to the evaluation criteria and point system. A total of 100 points is possible. As a result of this preliminary review, successful pre-applications are invited to submit a full-application package. Unsuccessful pre-applicants are removed from further consideration for funding under this solicitation. In either case, a letter of notification is provided to each applicant.

The second step requires the applicant to submit a full-application package, which is evaluated based on the same evaluation criteria as the preliminary application. The full-application package is evaluated for technical and financial feasibility. The reviewers discuss, rank, and make recommendations to Executive Steering Committee of Senior Federal officials.

5. Evaluation Criteria and Point System

a. Impact on National Forest System Lands Forest Restoration Activities: Total Points 40

• Condition of the forestlands proposed for the project, such as Fire Regime Condition Class (http://www.frcc.gov), insect and disease risk conditions, or degraded forestlands due to catastrophic weather events.

• Direct, tangible benefits with and without the grant (e.g., increased acres treated from forest restoration activities, increased value of raw material removed from forest restoration activities, and reduced Forest Service's cost per acre).

• Indirect, intangible benefit (such as air quality benefits, water quality benefits, socio-economic impacts, wildlife habitat, and watershed improvements).

• Opportunities created for using woody biomass material around National Forest System lands in locations where no capacity exists.

b. Technical Approach Work Plan: Total Points 25

• Technical feasibility of the proposed work.

• Adequacy and completeness of the proposed tasks.

• Likelihood of meeting project objectives.

• Reasonableness of time schedule.

• Identified deliverables/tasks.

• Timeliness—timeframe of the project.

• Evaluation and monitoring plan.

c. Financial Feasibility: Total Points 25

• Realistic budget and timeframe.

• Thorough financial documentation (see description of required documentation under financial feasibility, Section 7. c.).

• Level of matching funds for the grant.

d. Qualifications and Experience of Applicant: Total Points 10

• Experience, capabilities (technical and managerial).

• Demonstrated capacity.

If there are no technical or financial problems for the project, and there is significant impact on reducing the Forest Service's cost per acre, full points are given. If there are minor deficiencies, which could limit success, midway points are given. If there are major deficiencies, which could render the project unsuccessful, minimum points are given. Further scoring criteria can be found at http://www.fpl.fs.fed.us/tmu (under Woody Biomass Grants). Full-application packages that do not submit ALL required financial information will be disqualified.

6. Pre-Application Information

a. Pre-Application Submission

Pre-applications are required. Specific content and submission requirements for the pre-application are as follows: Each submittal must be composed of three paper copies (single-sided) of the pre-application. Paper copies of the pre-application must be on 8.5-by 11-inch plain white paper with a minimum font size of 11 letters per inch. Top, bottom, and side margins must be no less than three-quarters of an inch. All pages must be clearly numbered. The paper copies of the application package should be stapled with a single staple at the upper left-hand corner.

b. Pre-Application Content

Assemble information in the following order: cover page, project summary, project narrative, statement of need, project coordinator(s) and partner(s), goals and objectives, technical approach work plan, impact on National Forest System forest restoration treatments, evaluation and monitoring plan, budget justification narrative, budget, and appendices. The project narrative should provide a clear description of the work to be performed and its impact on National Forest System lands. It should address the technical approach work plan under criteria 2 in Section 5. The project narrative is limited to 5 pages, excluding cover page, budget justification, budget, or appendices.

The discussion of the impact on National Forest System lands is a critical component because these proposals are aimed at helping the Forest Service increase the number of acres treated and decrease the cost per acre for those National Forest System lands that are at risk due to hazardous fuel buildup, insects and diseases, or catastrophic weather events. Applicants should describe qualitatively and quantitatively how the project would decrease Forest Service treatment costs and/or increase the price one might offer for the woody biomass. Specifically, proposals should address the following:

• Condition of the forest or grassland, such as providing the Fire Regime Condition Class (http://www.frcc.gov), the insect and disease risk, or any catastrophic weather events and the consequences of the National Forest System not being able to do treatments because of the cost.

• What Forest Service is currently doing with material removed from forest restoration activities.

• What would be done with this material if grant is awarded?

• Anticipated outcomes and measures of success.

• Documentation of costs and benefits of project as a result of the award (see project feasibility discussion at http://www.fpl.fs.fed.us/tmu under Woody Biomass Grants).

• Documentation of intangible benefits. Examples of tangible and intangible benefits are listed on the Technology Marketing Unit's Web site at http://www.fpl.fs.fed.us/tmu (under Woody Biomass Grants).

• Long-Term Benefits of Project: Applicant should address the length of time the benefits and impacts are anticipated (e.g., project will have long-term consequences, such as equipment improvements, or a one-time benefit, such as a subsidy.)

• Expansion capability: Does the project have the potential to expand the application to additional forest treatment areas or to use more of the wood from treatments for higher valued uses?

A full description of each content item can be obtained from the Technology Marketing Unit's Web site at http://www.fpl.fs.fed.us/tmu (under Woody Biomass Grants), or by calling the telephone number in the FOR FURTHER INFORMATION CONTACT section, or by writing to the address in the ADDRESSES section of this notice.

c. Pre-Application Delivery

Pre-applications must be postmarked by November 3, 2006 and received no later than 5 p.m. Central Standard Time on November 10, 2006, by Shawn Lacina at the Forest Products Laboratory. Hand-delivered, e-mail, or fax applications will not be accepted. No exceptions allowed. Please send pre-applications to the address listed in the ADDRESSES section of this notice.

7. Full-Application Information

USDA Forest Service will request full applications only from those applicants selected in the pre-application process.

a. Full-Application Submission

Specific content and submission requirements for the full application are as follows: Each submittal must be composed of three paper copies (single-sided) of the full application. Paper copies of the full application must be on 8.5- by 11-inch plain white paper with a minimum font size of 11 letters per inch. Top, bottom, and side margins must be no less than three-quarters of an inch. All pages must be clearly numbered. The paper copies of the application package should be stapled with a single staple at the upper left-hand corner. Other bindings will not be accepted.

b. Full-Application Content

Assemble information in the following order: Cover page, project summary, project narrative, statement of need, project coordinator(s) and partner(s), goals and objectives, technical approach work plan, impact on National Forest System forest restoration activities, environmental documentation, project work plan and timeline, social impacts, evaluation and monitoring plan, equipment description, budget justification narrative, budget, financial feasibility, and appendices. The project narrative should provide a clear description of the work to be performed, how it will be accomplished, and its impact on National Forest System lands. It should address the technical approach work plan under criteria 2 listed in Section 5. The project narrative is limited to a total of 10 pages excluding cover page, budget justification, budget, appendices and financial documentation.

c. Detailed Financial Information

Detailed financial information is requested to assess the potential and the capability of the applicant. All financial information remains confidential and is not accessible under the Freedom of Information Act. If the applicant has questions about how confidential information is handled they should contact Shawn Lacina at slacina@fs.fed.us. The financial information should provide a general overview of historical and projected (pro forma) financial performance. Standard accounting principles should be used for developing the required financial information. Strong applications have benefited from the use of a certified accountant to develop this information. Applicants should refer to the Technology Marketing Unit's Web site at http://www.fpl.fs.fed.us/tmu (under Woody Biomass Grants) for the financial information requirements, as well as Web sites for standard financial templates.

d. Full-Application Delivery

Full applications must be postmarked by February 2, 2007, and received no later than 5 p.m. Central Standard Time on February 9, 2007, by Shawn Lacina at the Forest Products Laboratory. Hand-delivered, e-mail, or fax applications will not be accepted. No exceptions allowed. Please send full-applications to the address listed in the ADDRESSES section of this notice.

8. Appendices

The following information must be included in the appendix of the pre-application and the full-application package:

a. Letter of Support and Biomass Availability From Local USDA Forest Service District Ranger or Forest Supervisor

This letter must describe the status of National Environmental Policy Act (NEPA), acres, timeframes, available volumes, and opportunities for applicant to access these volumes. These letters should be submitted with both the pre-application and full-application.

b. Letters of Support From Partners, Individuals, or Organizations

Letters of support should be included in an appendix and are intended to display the degree of collaboration occurring between the different entities engaged in the project. These letters must include commitments of cash or in-kind services from all partners and must support the amounts listed in the budget. Each letter of support is limited to one page in length.

c. Key Personnel Qualifications

Qualifications of the project manager and key personnel should be included in an appendix. Qualifications are limited to two pages in length and should contain the following: Resume, biographical sketch, references, and demonstrated ability to manage the grant.

Dated: August 30, 2006.
James E. Hubbard,
Deputy Chief, State and Private Forestry.

[FR Doc. E6-14707 Filed 9-5-06; 8:45 am]

BILLING CODE 3410-11-P